DEPARTMENT OF DEFENSE

Department of the Army

Intent To Grant an Exclusive License for a U.S. Army Owned Invention to Distributed Control Factory Corporation of Pearl River, LA

AGENCY: Department of the Army, DoD.

ACTION: Notice.

SUMMARY: The Department of the Army announces that, unless there is objection, it will grant an exclusive license to Distributed Control Factory Corporation of Pearl River, Louisiana, on U.S. Patent Application Serial No. 10/064,542, entitled “System and Method for Model Based Control”, filed July 25, 2002, and on Patent Cooperation Treaty Patent Application Serial No. PCT/US03/23,540, entitled “System and Method for Model Based Control”, filed July 25, 2003. Any license granted shall comply with 35 U.S.C. 209 and 37 CFR part 404.

DATES: File written objections by February 20, 2004.

FOR FURTHER INFORMATION CONTACT: Mr. Robert Beam, Legal Office, AMSRD-AAR-GC, U.S. Army ARDEC, Picatinny Arsenal, NJ 07806-5000, (973) 724-3411.

SUPPLEMENTARY INFORMATION: Anyone wishing to object to the granting of this license has 15 days from the date of this notice to file written objections along with supporting evidence, if any.

Luz D. Ortiz,
Army Federal Register Liaison Officer.

[FR Doc. 04-2496 Filed 2-4-04; 8:45 am]

BILLING CODE 3710-08-M